DEPARTMENT OF COMMERCE

Foreign-Trade Zones Board

[B-06-2021]

Foreign-Trade Zone 240—Martinsburg, West Virginia; Application for Reorganization Under Alternative Site Framework

An application has been submitted to the Foreign-Trade Zones (FTZ) Board by the West Virginia Economic Development Authority, grantee of FTZ 240, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on February 4, 2021.

FTZ 240 was approved by the FTZ Board on February 7, 2000 (Board Order 1071, 65 FR 8119, February 17, 2000). The current zone includes the following site: Site 1 (317 acres)—Eastern West Virginia Regional Airport complex, 170 Aviation Way, Martinsburg.

The grantee's proposed service area under the ASF would be Berkley, Hampshire, Hardy, Jefferson and Morgan Counties, West Virginia, as described in the application. If approved, the grantee would be able to serve sites throughout the service area based on companies' needs for FTZ designation. The application indicates that the proposed service area is within and adjacent to the Front Royal, Virginia Customs and Border Protection port of entry.

The applicant is requesting authority to reorganize its existing zone to include the existing site as a “magnet” site. The ASF allows for the possible exemption of one magnet site from the “sunset” time limits that generally apply to sites under the ASF, and the applicant proposes that Site 1 be so exempted. No subzones/usage-driven sites are being requested at this time.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is April 12, 2021. Rebuttal comments in response to material submitted during the foregoing period may be submitted during the subsequent 15-day period to April 26, 2021.

A copy of the application will be available for public inspection in the “Reading Room” section of the FTZ Board's website, which is accessible via www.trade.gov/ftz. For further information, contact Christopher Kemp at Christopher.Kemp@trade.gov.

Dated: February 4, 2021.
Andrew McGilvray,
Executive Secretary.

[FR Doc. 2021-02640 Filed 2-8-21; 8:45 am]

BILLING CODE 3510-DS-P